DEPARTMENT OF TRANSPORTATION

Office of the Secretary

Notice of Applications for Certificates of Public Convenience and Necessity and Foreign Air Carrier Permits Filed Under Subpart B (formerly Subpart Q) During the Week Ending September 5, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0274.

Date Filed: September 5, 2008.

Due Date for Answers, Conforming Applications, or Motion to Modify Scope:September 26, 2008.

Description: Joint Application of TradeWinds Airlines, Inc. (“TW”) and Sky Lease I, Inc. (”Sky Lease”) requesting the Department transfer TW's certificates of public convenience and necessity (and certain other exemption authority) to Sky Lease.

Docket Number: DOT-OST-2008-0277.

Date Filed: September 4, 2008.

Due Date for Answers, Conforming Applications, or Motion to Modify Scope:September 25, 2008.

Description: Application of TUIfly Nordic A.B. (“TUIfly”) requesting an exemption and an amended foreign air carrier permit authorizing TUIfly to conduct operations to and from the United States to the full extent authorized by the United States-European Union Air Transport Agreement (“U.S.-E.U. Agreement”), including authority to engage in: (i) Charter foreign air transportation of persons, property and mail from any point(s) behind any Member State(s) of the European Community via any point(s) in any Member State(s) and intermediate points to any point(s) in the United States and beyond; (ii) charter foreign air transportation of persons, property and mail between any point(s) in the United States and any points(s) in any member of the European Common Aviation Area; (iii) charter foreign cargo air transportation between any point(s) in the United States and any other point(s); (iv) other charter pursuant to the prior approval requirements; and (v) transportation authorized by any additional route or other right(s) made available to European Community carrier in the future.

Renee V. Wright,
Program Manager, Docket Operations, Federal Register Liaison.

[FR Doc. E8-21815 Filed 9-17-08; 8:45 am]

BILLING CODE 4910-9X-P